DEPARTMENT OF TRANSPORTATION

Federal Aviation Administration

14 CFR Part 25

[Docket No. NM438 Special Conditions No. 25-423-SC]

Special Conditions: Gulfstream Model GVI Airplane; High Incidence Protection

AGENCY: Federal Aviation Administration (FAA), DOT.

ACTION: Final special conditions; correction.

SUMMARY: This document corrects an error that appeared in Docket No. NM438, Special Conditions No. 25-423-SC, which were published in the Federal Register on March 28, 2011. The error resulted in the omission of two paragraphs of text in The Special Conditions section.

DATES: Effective May 31, 2012.

FOR FURTHER INFORMATION CONTACT: Joe Jacobsen, FAA, Airplane and Flight Crew Interface Branch, ANM-111, Transport Standards Staff, Transport Airplane Directorate, Aircraft Certification Service, 1601 Lind Avenue SW., Renton, Washington 98057-3356; telephone (425) 227-2011; facsimile (425) 227-1320.

SUPPLEMENTARY INFORMATION: The document designated as “Docket No. NM438, Special Conditions No. 25-423-SC” was published in the Federal Register on March 28, 2011 (76 FR 17022). The document issued special conditions pertaining to a high incidence protection system that replaces the stall warning system during normal operating conditions, prohibits the airplane from stalling, limits the angle of attack at which the airplane can be flown during normal low speed operations, and cannot be overridden by the flight crew. These special conditions were, and continue to be applicable to, Gulfstream Model GVI airplanes.

As published, the document contained an error because paragraphs 3(e)(6) and 3(e)(7) were omitted. Due to its complexity the entire text of paragraph 3(e) is included below, including paragraphs 3(e)(6) and 3(e)(7).

3. Minimum Steady Flight Speed and Reference Stall Speed—In lieu of the requirements of § 25.103, the following special condition is issued:

(e) VSR must be determined with the following conditions:

(1) Engines idling, or, if that resultant thrust causes an appreciable decrease in stall speed, not more than zero thrust at the stall speed.

(2) The airplane in other respects (such as flaps and landing gear) in the condition existing in the test or performance standard in which VSR is being used.

(3) The weight used when VSR is being used as a factor to determine compliance with a required performance standard.

(4) The center of gravity position that results in the highest value of reference stall speed.

(5) The airplane trimmed for straight flight at a speed selected by the applicant, but not less than 1.13 VSR and not greater than 1.3 VSR.

(6) The high incidence protection function disabled, or adjusted to a high enough incidence to allow full development of the maneuver to the angle of attack corresponding to VSR.

(7) From the stabilized trim condition, apply the longitudinal control to decelerate the airplane so that the speed reduction does not exceed one knot per second.

Since no other part of the regulatory information has been changed, the special conditions are not being republished.

Correction

In Final special conditions document [FR Doc. 2011-7144 Filed 3-25-11; 8:45 a.m.] published on March 28, 2011 (76 FR 17022), make the following correction:

On page 17024, in the first column, which begins with (e), include the following paragraphs after (5) and before (f):

(6) The high incidence protection function disabled, or adjusted to a high enough incidence to allow full development of the maneuver to the angle of attack corresponding to VSR.

(7) From the stabilized trim condition, apply the longitudinal control to decelerate the airplane so that the speed reduction does not exceed one knot per second.

Issued in Renton, Washington, on May 18, 2012.
Michael J. Kaszycki,
Acting Manager, Transport Airplane Directorate, Aircraft Certification Service.

[FR Doc. 2012-13213 Filed 5-30-12; 8:45 am]

BILLING CODE 4910-13-P